DEPARTMENT OF TRANSPORTATION

Federal Aviation Administration

Aviation Rulemaking Advisory Committee; Meeting

AGENCY: Federal Aviation Administration (FAA), DOT.

ACTION: Notice of Aviation Rulemaking Advisory Committee (ARAC) meeting.

SUMMARY: This notice announces a meeting of the ARAC.

DATES: The meeting will be held on Thursday, December 9, 2021, from 1:00 p.m. to 4:00 p.m. Eastern Standard Time.

Requests to attend the meeting must be received by Monday, November 29, 2021.

Requests for accommodations to a disability must be received by Monday, November 29, 2021.

Requests to submit written materials to be reviewed during the meeting must be received no later than Monday, November 29, 2021.

ADDRESSES: The meeting will be held virtually. Members of the public who wish to observe the meeting must RSVP by emailing 9-awa-arac@faa.gov. General committee information including copies of the meeting minutes will be available on the FAA Committee website at https://www.faa.gov/regulations_policies/rulemaking/committees/documents/.

FOR FURTHER INFORMATION CONTACT: Lakisha Pearson, Federal Aviation Administration, 800 Independence Avenue SW, Washington, DC 20591, telephone (202) 267-4191; fax (202) 267-5075; email 9-awa-arac@faa.gov. Any committee-related request should be sent to the person listed in this section.

SUPPLEMENTARY INFORMATION:

I. Background

The ARAC was created under the Federal Advisory Committee Act (FACA), in accordance with Title 5 of the United States Code (5 U.S.C. App. 2) to provide advice and recommendations to the FAA concerning rulemaking activities, such as aircraft operations, airman and air agency certification, airworthiness standards and certification, airports, maintenance, noise, and training.

II. Agenda

At the meeting, the agenda will cover the following topics:

• Status Report from the FAA

• Status Updates:

○ Active Working Groups

○ Transport Airplane and Engine (TAE) Subcommittee

• Recommendation Reports

• Any Other Business

Detailed agenda information will be posted on the FAA Committee website address listed in the ADDRESSES section at least one week in advance of the meeting.

III. Public Participation

This virtual meeting will be open to the public on a first-come, first-served basis. Members of the public who wish to attend are asked to register via email by submitting the following information: Full legal name, country of citizenship, and name of your industry association, or applicable affiliation, to the email listed in the ADDRESSES section. When registration is confirmed, registrants will be provided the virtual meeting information/teleconference call-in number and passcode. Callers are responsible for paying associated long-distance charges.

The U.S. Department of Transportation is committed to providing equal access to this meeting for all participants. If you need alternative formats or services because of a disability, such as sign language, interpretation, or other ancillary aids, please contact the person listed in the FOR FURTHER INFORMATION CONTACT section.

The FAA is not accepting oral presentations at this meeting due to time constraints. Any member of the public may present a written statement to the committee at any time. The public may present written statements to ARAC by providing a copy to the Designated Federal Officer via the email listed in the FOR FURTHER INFORMATION CONTACT section.

Timothy R. Adams,
Acting Executive Director, Office of Rulemaking.

[FR Doc. 2021-25325 Filed 11-19-21; 8:45 am]

BILLING CODE 4910-13-P